COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services to the Procurement List that were furnished by nonprofit agencies employing persons who are blind or have other severe disabilities.

DATES: Date deleted from the Procurement List: December 22, 2019.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Deletions

On 10/11/2019 and 10/18/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 1173—Refill, Sweeper Set, Dry Cloths, 16 Count

MR 1175—Refill, Sweeper Set, Wet Cloths, 24 Count

Mandatory Source of Supply: LC Industries, Inc., Durham, NC

Contracting Activity: Military Resale-Defense Commissary Agency

NSN(s)—Product Name(s):

MR 339—Slicer, Banana, Plastic

MR 400—Bag, Shopping Tote, Laminated, Small, “Live Spicy”

MR 401—Bag, Shopping Tote, Laminated, Small, “Live Fresh”

MR 408—Bag, Insulated, Thermal, Reusable, Small

Mandatory Source of Supply: Industries for the Blind and Visually Impaired, Inc., West Allis, WI

Contracting Activity: Military Resale-Defense Commissary Agency

Services

Service Type: Janitorial/Custodial

Mandatory for: Jimmy Carter National Historic Site, Plains, GA

Mandatory Source of Supply: Middle Flint Behavioral HealthCare—Sumter County MR Center, Americus, GA

Contracting Activity: NATIONAL PARK SERVICE, SER REGIONAL CONTRACTING OPO

Amy B. Jensen,
Deputy Director, Business Operations.

[FR Doc. 2019-25394 Filed 11-21-19; 8:45 am]

BILLING CODE 6353-01-P